DEPARTMENT OF TRANSPORTATION

Pipeline and Hazardous Materials Safety Administration

[Docket No. PHMSA-2015-0139]

Pipeline Safety: PHMSA Pipeline Risk Modeling Methodologies Public Workshop

AGENCY: Pipeline and Hazardous Materials Safety Administration, DOT.

ACTION: Notice of public meeting.

SUMMARY: This notice is to announce a public workshop to discuss the advancement of risk modeling methodologies of gas transmission and hazardous liquid pipelines, and the risk modeling methodologies used for non-pipeline systems. This workshop will bring industry, Federal and state regulators, interested members of the public, and other stakeholders together to share knowledge and experience on risk modeling within the pipeline industry and other fields, ways to advance pipeline risk models, and practical ways that operators can adopt and/or adapt them to the analyses of their systems.

DATES: The public workshop will be held on Wednesday, September 9, 2015, from 8:00 a.m. to 5:00 p.m., EST, and Thursday, September 10, 2015, from 8:00 a.m. to 12:00 p.m. EST. (Changes to start or finish times will be updated on the PHMSA meeting page Web site, along with the meeting agenda https://primis.phmsa.dot.gov/meetings/MtgHome.mtg?mtg=104.)

ADDRESSES: The workshop will be held at the Crystal City Marriott at Reagan National Airport, 1999 Jefferson Davis Highway, Arlington, VA 22202. Please see the meeting Web site for hotel room block information at https://primis.phmsa.dot.gov/meetings/MtgHome.mtg?mtg=104.

The meeting agenda and any additional information will also be published on the PHMSA meeting page Web site.

Registration: Members of the public may attend this free workshop. To help assure that adequate space is provided, all attendees should register for the workshop in advance at the PHMSA meeting page Web site.

Please note that the public workshop will be webcast. The details on this meeting, including the location, times, agenda items, and link to the webcast, will be available on the meeting page Web site (https://primis.phmsa.dot.gov/meetings/MtgHome.mtg?mtg=104) as they become available. Attendees, both in person and by webcast, are strongly encouraged to register to help ensure accommodations are adequate.

Presentations will also be available online at the meeting page Web site within 30 days following the meeting.

Comments: Members of the public may also submit written comments either before or after the workshop. Comments should reference Docket No. PHMSA-2015-0139. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement

Anyone may search the electronic form of all comments received for any of our dockets. You may review DOT's complete Privacy Act Statement in the Federal Register published April 11, 2000 (65 FR 19476).

Information on Services for Individuals With Disabilities

For information on facilities or services for individuals with disabilities, or to request special assistance at the meeting, please contact Mr. Kenneth Lee, Director, Engineering and Research Division, at (202) 366-2694 or Kenneth.lee@dot.gov.

FOR FURTHER INFORMATION CONTACT: Kenneth Lee, Director, Engineering and Research Division, at 202-366-2694 or Kenneth.lee@dot.gov about the subject matter in this notice.

SUPPLEMENTARY INFORMATION:

Introduction

The Federal pipeline safety regulations (49 CFR part 192 Subpart O; 49 CFR § 195.452) requires operators to continually examine ways to reduce the threats to pipelines in order to minimize the likelihood of a release, and ways to reduce the consequences of potential releases. A primary tool to implement this process is generally referred to as a “risk analysis” or “risk assessment.”

To support integrity management requirements, a risk analysis modeling approach must be able to adequately characterize all pipeline integrity threats and consequences concurrently, and the impact of measures to reduce risk must be evaluated.

This workshop will focus on advancing risk modeling approaches by looking at risk modelling methodologies for pipeline and non-pipeline systems, and practical ways that operators can adopt and/or adapt them to the analyses of their systems.

Background

Subsequent to implementation of the integrity management rules, industry has adopted a variety of approaches to risk analysis. Many of these approaches are variations of the “risk index” models. Index models and other basic approaches to risk modeling have been implemented by industry for purposes such as risk-ranking pipeline segments to prioritize initial integrity management-required baseline assessments. Additional opportunities to utilize these approaches to do more investigative oriented analyses in order to identify specific ways to reduce risks are being explored.

As summarized and discussed in past public forums and workshops on pipeline safety (e.g., 2014 Government/Industry Pipeline R&D Forum), industry and PHMSA are in general agreement that risk models need to evolve in such a way as to be more investigative in nature.

PHMSA believes that improving risk models is important for further reducing the risk of pipelines to the public health and safety. In particular, PHMSA is interested in specific ways to advance pipeline risk models, and in practical ways that operators can adopt and/or adapt risk models to the analyses of their systems.

Issued in Washington, DC, on August 10, 2015, under authority delegated in 49 CFR 1.97.
Linda Daugherty,
Deputy Associate Administrator for Field Operations.

[FR Doc. 2015-19929 Filed 8-12-15; 8:45 am]

BILLING CODE 4910-60-P